DEPARTMENT OF VETERANS AFFAIRS

Notice of Intent To Grant an Exclusive License

AGENCY: Office of Research and Development, Department of Veterans Affairs.

ACTION: Notice of intent.

SUMMARY: Notice is hereby given that the Department of Veterans Affairs, Office of Research and Development, intends to grant to Proactive Assistive Technology, LLC, 8606 Leighton Dr., Tampa, FL 33614, USA, an exclusive license to practice the following: U.S. Patent Application No. 14/022,532 and U.S. Patent Application No. 14/022,477 which claimed priority of U.S. Provisional Patent Application No. 61/744,353, “Transfer Assist Standbar,” filed September 25, 2012. Copies of the published patent applications may be obtained from the U.S. Patent and Trademark Office at www.uspto.gov.

DATES: Comments must be received within 15 days from the date of this published Notice.

ADDRESSES: Written comments may be submitted through www.regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8:00 a.m. and 4:30 p.m., Monday through Friday (except holidays). Call (202) 461-4902 for an appointment (this is not a toll-free number). In addition, during the comment period, comments may be viewed online through the Federal Docket Management System at http://www.regulations.gov.

FOR FURTHER INFORMATION CONTACT: Director of Technology Transfer Program, Office of Research and Development (10P9TT), Department of Veterans Affairs, 810 Vermont Avenue NW., Washington, DC 20420, (202) 443-5640 (this is not a toll-free number).

SUPPLEMENTARY INFORMATION: It is in the public interest to license this invention to Proactive Assistive Technology, to facilitate the development and commercialization of a device for an individual that has restricted or limited mobility, to assist the individual while in a standing or sitting position, or switching between sitting and standing positions. The prospective exclusive license will be royalty-bearing, and will comply with the terms and conditions of 35 U.S.C. 209 and 37 CFR 404.7. The prospective exclusive license may be granted, unless VA ORD receives written evidence and argument within 15 days from the date of this published Notice, which establishes that the grant of the license would not be consistent with the requirements of 35 U.S.C. 209 and 37 CFR 404.7.

Dated: May 7, 2015.
William F. Russo,
Acting Director, Office of Regulation Policy & Management, Office of the General Counsel, Department of Veterans Affairs.

[FR Doc. 2015-11463 Filed 5-12-15; 8:45 am]

BILLING CODE 8320-01-P